NUCLEAR REGULATORY COMMISSION

[Docket Nos. 50-336 and 50-423; License Nos. DPR-65 and NPF-49; EA-17-077; NRC-2017-0224]

Dominion Energy Nuclear Connecticut, Inc.; Millstone Power Station

AGENCY: Nuclear Regulatory Commission.

ACTION: Confirmatory order; issuance.

SUMMARY: The U.S. Nuclear Regulatory Commission (NRC) is issuing a Confirmatory Order to Dominion Energy Nuclear Connecticut, Inc. (Dominion) to memorialize the agreement reached during an alternative dispute resolution mediation session held on September 20, 2017. This Order will resolve the issue that was identified during an NRC investigation of actions by a (former) contractor security officer at Dominion's Millstone Power Station whom the NRC determined did not: (1) Perform required maintenance of site weapons; and (2) properly conduct monthly inventories of out of service weapons. The Confirmatory Order is effective upon issuance.

DATES: The Order was issued on November 21, 2017.

ADDRESSES: Please refer to Docket ID NRC-2017-0224 when contacting the NRC about the availability of information regarding this document. You may obtain publicly-available information related to this document using any of the following methods:

• Federal Rulemaking Web site: Go to http://www.regulations.gov and search for Docket ID NRC-2017-0224. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Marjorie M. McLaughlin, Region I, U.S. Nuclear Regulatory Commission, 2100 Renaissance Blvd. King of Prussia, PA 19140; telephone: 610-337-5240, email: Marjorie.Mclaughlin@nrc.gov.

SUPPLEMENTARY INFORMATION: The text of the Order is attached.

Dated at Rockville, Maryland, this 21st day of November 2017.
For the Nuclear Regulatory Commission.
Daniel H. Dorman,
Regional Administrator.

United States of America

Nuclear Regulatory Commission

In the Matter of: Dominion Energy Nuclear Connecticut, Inc.

Docket Nos. 05000336 & 05000423

License Nos. DPR-65 and NPF-49

EA-17-077

Confirmatory Order

(Effective Immediately)

I

Dominion Nuclear Connecticut, Inc. (Dominion) ¹ is the holder of operating reactor License No. DPR-65 issued by the Nuclear Regulatory Commission (NRC) pursuant to 10 CFR part 50 on September 26, 1975, and renewed on November 28, 2005, and NPF-49 issued by the NRC pursuant to 10 CFR part 50 on January 31, 1986, and renewed on November 28, 2005. The licenses authorize the operation of Millstone Power Station Units 2 and 3 (Millstone) in accordance with conditions specified therein. Millstone is located on the Licensee's site in Waterford, Connecticut.

¹ In a letter dated June 15, 2017 (ML17171A232), Dominion Nuclear Connecticut, Inc. notified the NRC that the company was changing its name to Dominion Energy Nuclear Connecticut, Inc., and requested that the NRC amend the Millstone operating licenses to reflect this change. The amendment request is currently under review by the NRC. The commitments in this Order apply to the entity that owns the licensed facilities, regardless of the entity's name.

This Confirmatory Order is the result of an agreement reached during an Alternative Dispute Resolution (ADR) mediation session conducted on September 20, 2017.

II

On August 31, 2016, the NRC Office of Investigations (OI), Region I Field Office opened an investigation (OI Case No. 1-2016-019) to evaluate whether a contract security officer working for G4S Secure Solutions USA, Inc. as an Armorer at Millstone deliberately failed to perform assigned duties pertaining to the accountability, testing, and maintenance of site response weapons and falsified related records. The investigation was completed on April 27, 2017, and the results documented in OI Report No. 1-2016-019. Based on the evidence developed during the investigation, the NRC concluded that the contract security officer: (1) Deliberately failed to perform assigned duties pertaining to the testing, maintenance, and accountability of site response weapons; and (2) deliberately falsified related records.

Specifically, OI identified numerous discrepancies on a number of weapons maintenance records from between January 2015 and June 2016, where the contract security officer indicated that (s)he had performed test-firing, cleaning, or maintenance activities for weapons on dates when (s)he, in fact, either had not worked or had not accessed the site Protected Area to retrieve the weapons from their staged locations.

The contract security officer indicated to OI that (s)he had been unable to keep up with his/her increasing workload, which led to his/her decision to not perform required tasks and to falsify related records. The contract officer testified to OI that (s)he had requested help with the Armorer function. The contract officer admitted to OI that (s)he had falsified some records to indicate that (s)he was meeting the required maintenance timeframes, without having performed the maintenance activities. The contract officer stated that (s)he usually performed the maintenance at some later point, but admitted that this may not have always happened. OI concluded that the contract officer deliberately failed to perform the required activities during this timeframe and created false records to indicate that (s)he had performed them.

OI also identified discrepancies with the out-of-service weapons inventory records for January 2016, March 2016, April 2016, and May 2016. Specifically, OI identified that the recorded dates on which the January, March, and April inventories were completed were dates on which the contract security officer did not work. Additionally, OI identified that the April and May inventories listed weapons as being present at Millstone that were no longer on site.

The contract security officer testified to OI that (s)he must have made a mistake when (s)he documented the wrong dates. The contract officer also acknowledged to OI that (s)he had not individually reviewed the serial numbers of all out-of-service weapons when conducting the inventories and had just assumed the weapons were still onsite. The contract officer said this assumption had been based on the fact that the weapons had been packaged for shipment, and had been stored in a locked room to which only the contract officer possessed a key. However, the contract officer was the individual who had transported the weapons offsite, and should have known that they were no longer there. The contract officer acknowledged to OI that (s)he should have taken the time to account for the weapons that had already been transferred, but that (s)he had not done that. OI concluded that the contract officer deliberately failed to perform the inventories for those months and created false records when (s)he prepared the inventory logs.

The NRC determined that the contract security officer's deliberate actions caused Dominion to be in violation of 10 CFR 73, Appendix B, Section VI.G, “Weapons, Personal Equipment, and Maintenance,” and the Millstone Security Plan. Specifically, 10 CFR 73, Appendix B, Section VI.G, “Weapons, Personal Equipment, and Maintenance,” Section 3(a), “Firearms maintenance program,” requires that each licensee shall implement a firearms maintenance and accountability program in accordance with the Commission regulations and the Commission-approved training and qualification plan. The Millstone Training and Qualification Plan is Appendix B to the site's Physical Security Plan. Section 20, “Maintenance, Testing, and Calibration,” part 20.5, “Firearms,” states that a testing and maintenance program for all assigned firearms is established to ensure that the firearms and related accessories function as intended. The program is described in facility procedures. In particular, Dominion Security General Order GO-MP-0215, Rev. 5, “Weapons Maintenance Program,” constitutes the Millstone facility procedure for the testing, cleaning, and inspecting of security weapons, and requires that: all in-service weapons assigned to Millstone will be test fired on a semi-annual basis; weapons cleaning and maintenance shall occur after all test firing and also semi-annually by the Armorer; and the Armorer shall perform semi-annual weapons inspections. Additionally, Dominion Security General Order GO-MP-0202, Rev. 0, “Out of Service Weapons and Ammunition Accountability,” constitutes the Millstone facility procedure for ensuring the accurate accountability of out of service weapons, magazines, and ammunition, and requires that the Armorer perform a monthly accountability of all out of service firearms, magazines, and ammunition.

The NRC determined that the contract security officer's deliberate actions also caused Dominion to be in violation of 10 CFR 50.9, which requires, in part, that information required by the Commission's regulations, orders, or license conditions to be maintained by the licensee shall be complete and accurate in all material respects. Specifically, 10 CFR 73.70(e) requires that nuclear power reactor licensees shall keep documentation of all tests, inspections, and maintenance performed on required security related equipment for three years from the date of documenting the event. Information related to tests, inspections, and maintenance performed on weapons is material to the NRC because it is relied upon as documentation that they are in acceptable working condition. Information relating to the accountability of out of service weapons is material to the NRC because the proper accounting of weapons helps to ensure that these items have not been stolen or misplaced such that they could be used to defeat the Licensee's protective strategy.

By letter dated July 20, 2017, the NRC notified the Licensee of the results of the investigation with an opportunity to: (1) Provide a response in writing; (2) attend a pre-decisional enforcement conference; or (3) participate in an ADR mediation session in an effort to resolve these concerns.

In response to the NRC's offer, the Licensee requested the use of the NRC's ADR process. On September 20, 2017, the NRC and the Licensee met in an ADR session mediated by a professional mediator, arranged through Cornell University's Institute on Conflict Resolution. The ADR process is one in which a neutral mediator, with no decision-making authority, assists the parties in reaching an agreement on resolving any differences regarding the dispute. This Confirmatory Order is issued pursuant to the agreement reached during the ADR process.

III

During the ADR session, the Licensee and the NRC reached a preliminary settlement agreement. The elements of the agreement include the following:

A. Items To Assure Restoration of Compliance

1. Within 30 days of the date of the Confirmatory Order, Dominion shall prepare a full inventory of all in-service and out-of-service weapons on-site. Within 30 days of completing this action, Dominion shall inform the NRC that the action is complete by sending a letter to the Region I Administrator and shall make the inventory list available to the NRC for review during an inspection.

2. Within 30 days of the date of the Confirmatory Order, Dominion shall prepare a report of the maintenance status of all in-service weapons that are on-site as of the date of the Confirmatory Order. The report shall specify the dates on which each weapon was last test-fired, cleaned, serviced, and inspected. Within 30 days of completing this action, Dominion shall inform the NRC that the action is complete by sending a letter to the Region I Administrator and shall make the report available to the NRC for review during an inspection.

B. Items To Address Wrongdoing

1. Within 30 days of the date of the Confirmatory Order, Dominion shall communicate this issue to all personnel at Millstone and other Dominion Energy, Inc. nuclear sites. The communication (which may be verbal or via written communication) shall specify that falsification of records is unacceptable and shall also explain the specific actions staff are expected to take when unable to fulfill NRC requirements. Within 30 days of completing this action, Dominion shall inform the NRC that the action is complete by sending a letter to the Region I Administrator and shall make the content of the communication available to the NRC for review during an inspection.

2. Within 10 days of the date of the Confirmatory Order, Dominion shall ensure that Dominion's records related to the former contract security officer's entry in the Personnel Access Data System includes information related to this case. Within 10 days of completing this action, Dominion shall inform the NRC that the action is complete by notifying the Chief, Plant Support Branch 1, NRC Region I via telephone.

C. Items To Address Security Organization Weaknesses

1. Within 180 days of the date of the Confirmatory Order, Dominion shall perform an evaluation of its oversight of the security contract organization. The evaluation shall review reporting relationships, Licensee and contractor responsibilities for individual performance management, and the means in place to verify that regulatory requirements are being met. The evaluation shall consider what improvements can be made in these areas and specify any identified corrective actions. Within 30 days of completing this action, Dominion shall inform the NRC that the action is complete by sending a letter to the Region I Administrator and shall make the results of the evaluation available to the NRC for review during an inspection.

2. Within 90 days of completing the evaluation described in Item C.1, Dominion shall administer training to Dominion Security management staff at Millstone that focuses on roles and expectations for managing contractor staff and that reinforces Dominion's responsibility for assuring regulatory compliance. Within 30 days of completing this action, Dominion shall inform the NRC that the action is complete by sending a letter to the Region I Administrator and shall make the training materials available to the NRC for review during an inspection.

3. Within 120 days of the date of this Confirmatory Order, Dominion shall administer a safety culture survey to the Millstone security organization. Prior to administering the survey, Dominion shall retain a safety culture expert, external to the Dominion Energy Inc. organization, to review Dominion's root cause evaluation of this issue and evaluate the need to append to the survey additional questions to assess the current state of individual and organizational behaviors related to the root cause evaluation. The survey questions and results shall be retained by Dominion for one year after administration of the survey and shall be made available to the NRC for review during an inspection.

4. Within 240 days of the date of the Confirmatory Order, Dominion shall perform an organizational effectiveness evaluation of the Millstone security organization. The evaluation team shall be comprised of no more than 50% Dominion Energy Inc. nuclear employees, and the remaining participants shall be from an outside organization (such as another utility or an industry group). The safety culture expert retained as described in Item C.3 shall be part of the evaluation team. The evaluation shall include a review of the results of the safety culture survey, including trending within the Millstone security organization and benchmarking with other Dominion Energy Inc. nuclear sites, along with the root cause evaluation, with particular emphasis on the traits of a healthy nuclear safety culture. It shall also include a review of the clarity for the security staff about lines of responsibility and reporting, and the performance and quality of how individual job performance results are evaluated, documented, and communicated. The evaluation shall result in an Action Plan that includes measures of effectiveness. Within 30 days of completing this action, Dominion shall inform the NRC that the action is complete by sending a letter to the Region I Administrator and shall make the results of the evaluation and a copy of the Action Plan available to the NRC for review during an inspection.

D. Items To Address Armorer Function Weaknesses

1. Within 180 days of the date of the Confirmatory Order, Dominion shall evaluate its implementation of the Armorer function at Millstone. The evaluation shall include review of the staffing and responsibilities of the position, the methodology for tracking weapons maintenance status and activities, and supervisory involvement in verifying completion of required activities. The evaluation shall also include a comparison of Millstone's weapons maintenance processes (including the process for performing functionality checks and the standards for identifying degradation) versus other Dominion Energy Inc. nuclear sites and a sample of non-Dominion Energy Inc. nuclear sites. The evaluation shall identify best practices and consider any changes needed at Millstone and specify any identified corrective actions. Within 30 days of completing this action, Dominion shall inform the NRC that the action is complete by sending a letter to the Region I Administrator and shall make the results of the evaluation available to the NRC for review during an inspection.

2. Within 90 days of completing the evaluation described in Item D.1, Dominion shall communicate (which may be verbal or in writing) to Dominion Security management staff at Millstone the results of the evaluation and any completed or pending corrective actions. Within 30 days of completing this action, Dominion shall inform the NRC that the action is complete by sending a letter to the Region I Administrator and shall make the content of the communication available to the NRC for review during an inspection.

E. Items To Address Weapons Accountability Process Weaknesses

1. Within 180 days of the date of the Confirmatory Order, Dominion shall review its process for performing and recording in-service and out-of-service weapons inventory. The review shall include a comparison of Millstone's process versus other Dominion Energy Inc. nuclear sites and a sample of non-Dominion Energy Inc. nuclear sites. The evaluation shall identify best practices and consider any changes needed at Millstone and specify any identified corrective actions. Within 30 days of completing this action, Dominion shall inform the NRC that the action is complete by sending a letter to the Region I Administrator and shall make the results of the evaluation available to the NRC for review during an inspection.

F. Effectiveness Reviews

1. Within 90 days of the date of the Confirmatory Order, Dominion shall complete the first of four quarterly reviews of the effectiveness of the weapons maintenance program and of the corrective actions implemented in response to this issue. Within 30 days of completing the first such review, Dominion shall inform the NRC of the completion of the review by sending a letter to the Region I Administrator.

2. The effectiveness reviews discussed in Item F.1 shall be conducted by a team that includes an individual from outside the Dominion Energy Inc. nuclear fleet. For a period of one year after completion of the fourth review, the documented effectiveness reviews shall be made available to the NRC for review during an inspection.

G. External Communication

1. By December 31, 2019, Dominion shall discuss this issue, including the results of all of the above-listed evaluations and resulting corrective actions, to the following industry working groups: (a) The Nuclear Security Working Group; and (b) the 2019 National Nuclear Security Conference. The discussion shall include reference to any identified organizational weaknesses that Dominion determined contributed to the issue. Within 30 days of completing each discussion, Dominion shall inform the NRC that the action is complete by sending a letter to the Region I Administrator and shall make the presentation materials available to the NRC for one year after the presentation for review during an inspection.

H. Items to Which the NRC Has Agreed

1. In consideration of the above actions, the NRC agrees not to pursue any further enforcement action (including issuance of a civil penalty) relating to the notice of apparent violations (Case no. EA-17-077, Inspection Report Nos. 05000336/2017405 & 05000423/2017405, Office of Investigations Report No. 1-2016-019), dated July 20, 2017.

2. The NRC agrees that the Confirmatory Order documenting the above items will not be considered an escalated enforcement action by the NRC for future assessment of violations occurring at Millstone Power Station Units 2 and 3.

3. In the event of the transfer of the operating licenses of Millstone Power Station Units 2 and 3 to another entity, the commitments hereunder shall survive any transfer of ownership and will be binding on the new Licensee.

On November 13, 2017, Dominion consented to issuing this Order with the commitments, as described in Section V below. Dominion further agreed that this Order is to be effective upon issuance, the agreement memorialized in this Confirmatory Order settles the matter between the parties, and that it has waived its right to a hearing.

IV

I find that Dominion's commitments as set forth in Section V are acceptable and necessary, and conclude that with these commitments the public health and safety are reasonably assured. In view of the foregoing, I have determined that public health and safety require that Dominion's commitments be confirmed by this Confirmatory Order. Based on the above and Dominion's consent, this Confirmatory Order is effective upon issuance.

V

Accordingly, pursuant to Sections 104b, 161b, 161i, 161o, 182 and 186 of the Atomic Energy Act of 1954, as amended, and the Commission's regulations in 10 CFR 2.202 and 10 CFR part 50 and 10 CFR part 73, IT IS HEREBY ORDERED, EFFECTIVE UPON ISSUANCE, THAT LICENSE NO. DPR-65 AND LICENSE NO. NPF-49 ARE MODIFIED AS FOLLOWS:

A. Items To Assure Restoration of Compliance

1. Within 30 days of the date of the Confirmatory Order, Dominion shall prepare a full inventory of all in-service and out-of-service weapons on-site. Within 30 days of completing this action, Dominion shall inform the NRC that the action is complete by sending a letter to the Region I Administrator and shall make the inventory list available to the NRC for review during an inspection.

2. Within 30 days of the date of the Confirmatory Order, Dominion shall prepare a report of the maintenance status of all in-service weapons that are on-site as of the date of the Confirmatory Order. The report shall specify the dates on which each weapon was last test-fired, cleaned, serviced, and inspected. Within 30 days of completing this action, Dominion shall inform the NRC that the action is complete by sending a letter to the Region I Administrator and shall make the report available to the NRC for review during an inspection.

B. Items To Address Wrongdoing

1. Within 30 days of the date of the Confirmatory Order, Dominion shall communicate this issue to all personnel at Millstone and other Dominion Energy Inc. nuclear sites. The communication (which may be verbal or via written communication) shall specify that falsification of records is unacceptable and shall also explain the specific actions staff are expected to take when unable to fulfill NRC requirements. Within 30 days of completing this action, Dominion shall inform the NRC that the action is complete by sending a letter to the Region I Administrator and shall make the content of the communication available to the NRC for review during an inspection.

2. Within 10 days of the date of the Confirmatory Order, Dominion shall ensure that Dominion's records related to the former contract security officer's entry in the Personnel Access Data System includes information related to this case. Within 10 days of completing this action, Dominion shall inform the NRC that the action is complete by notifying the Chief, Plant Support Branch 1, NRC Region I via telephone.

C. Items To Address Security Organization Weaknesses

1. Within 180 days of the date of the Confirmatory Order, Dominion shall perform an evaluation of its oversight of the security contract organization. The evaluation shall review reporting relationships, Licensee and contractor responsibilities for individual performance management, and the means in place to verify that regulatory requirements are being met. The evaluation shall consider what improvements can be made in these areas and specify any identified corrective actions. Within 30 days of completing this action, Dominion shall inform the NRC that the action is complete by sending a letter to the Region I Administrator and shall make the results of the evaluation available to the NRC for review during an inspection.

2. Within 90 days of completing the evaluation described in Item C.1, Dominion shall administer training to Dominion Security management staff at Millstone that focuses on roles and expectations for managing contractor staff and that reinforces Dominion's responsibility for assuring regulatory compliance. Within 30 days of completing this action, Dominion shall inform the NRC that the action is complete by sending a letter to the Region I Administrator and shall make the training materials available to the NRC for review during an inspection.

3. Within 120 days of the date of this Confirmatory Order, Dominion shall administer a safety culture survey to the Millstone security organization. Prior to administering the survey, Dominion shall retain a safety culture expert, external to the Dominion Energy Inc. organization, to review Dominion's root cause evaluation of this issue and evaluate the need to append to the survey additional questions to assess the current state of individual and organizational behaviors related to the root cause evaluation. The survey questions and results shall be retained by Dominion for one year after administration of the survey and shall be made available to the NRC for review during an inspection.

4. Within 240 days of the date of the Confirmatory Order, Dominion shall perform an organizational effectiveness evaluation of the Millstone security organization. The evaluation team shall be comprised of no more than 50% Dominion Energy Inc. nuclear employees, and the remaining participants shall be from an outside organization (such as another utility or an industry group). The safety culture expert retained as described in Item C.3 shall be part of the evaluation team. The evaluation shall include a review of the results of the safety culture survey, including trending within the Millstone security organization and benchmarking with other Dominion Energy Inc. nuclear sites, along with the root cause evaluation, with particular emphasis on the traits of a healthy nuclear safety culture. It shall also include a review of the clarity for the security staff about lines of responsibility and reporting, and the performance and quality of how individual job performance results are evaluated, documented, and communicated. The evaluation shall result in an Action Plan that includes measures of effectiveness. Within 30 days of completing this action, Dominion shall inform the NRC that the action is complete by sending a letter to the Region I Administrator and shall make the results of the evaluation and a copy of the Action Plan available to the NRC for review during an inspection.

5. Items To Address Armorer Function Weaknesses

1. Within 180 days of the date of the Confirmatory Order, Dominion shall evaluate its implementation of the Armorer function at Millstone. The evaluation shall include review of the staffing and responsibilities of the position, the methodology for tracking weapons maintenance status and activities, and supervisory involvement in verifying completion of required activities. The evaluation shall also include a comparison of Millstone's weapons maintenance processes (including the process for performing functionality checks and the standards for identifying degradation) versus other Dominion Energy Inc. nuclear sites and a sample of non-Dominion Energy Inc. nuclear sites. The evaluation shall identify best practices and consider any changes needed at Millstone and specify any identified corrective actions. Within 30 days of completing this action, Dominion shall inform the NRC that the action is complete by sending a letter to the Region I Administrator and shall make the results of the evaluation available to the NRC for review during an inspection.

2. Within 90 days of completing the evaluation described in Item D.1, Dominion shall communicate (which may be verbal or in writing) to Dominion Security management staff at Millstone the results of the evaluation and any completed or pending corrective actions. Within 30 days of completing this action, Dominion shall inform the NRC that the action is complete by sending a letter to the Region I Administrator and shall make the content of the communication available to the NRC for review during an inspection.

D. Items To Address Weapons Accountability Process Weaknesses

1. Within 180 days of the date of the Confirmatory Order, Dominion shall review its process for performing and recording in-service and out-of-service weapons inventory. The review shall include a comparison of Millstone's process versus other Dominion Energy Inc. nuclear sites and a sample of non-Dominion Energy Inc. nuclear sites. The evaluation shall identify best practices and consider any changes needed at Millstone and specify any identified corrective actions. Within 30 days of completing this action, Dominion shall inform the NRC that the action is complete by sending a letter to the Region I Administrator and shall make the results of the evaluation available to the NRC for review during an inspection.

E. Effectiveness Reviews

1. Within 90 days of the date of the Confirmatory Order, Dominion shall complete the first of four quarterly reviews of the effectiveness of the weapons maintenance program and of the corrective actions implemented in response to this issue. Within 30 days of completing the first such review, Dominion shall inform the NRC of the completion of the review by sending a letter to the Region I Administrator.

2. The effectiveness reviews discussed in Item F.1 shall be conducted by a team that includes an individual from outside the Dominion Energy Inc. nuclear fleet. For a period of one year after completion of the fourth review, the documented effectiveness reviews shall be made available to the NRC for review during an inspection.

F. External Communication

1. By December 31, 2019, Dominion shall discuss this issue, including the results of all of the above-listed evaluations and resulting corrective actions, to the following industry working groups: (a) The Nuclear Security Working Group; and (b) the 2019 National Nuclear Security Conference. The discussion shall include reference to any identified organizational weaknesses that Dominion determined contributed to the issue. Within 30 days of completing each discussion, Dominion shall inform the NRC that the action is complete by sending a letter to the Region I Administrator and shall make the presentation materials available to the NRC for one year after the presentation for review during an inspection.

In the event of the transfer of the operating licenses of Millstone Power Station Units 2 and 3 to another entity, the commitments set forth hereunder shall continue to apply to the new entity and accordingly survive any transfer of ownership or license. The Regional Administrator, Region I may, in writing, relax or rescind any of the above conditions upon demonstration by the Licensee of good cause.

VI

In accordance with 10 CFR 2.202 and 10 CFR 2.309, any person adversely affected by this Confirmatory Order, other than Dominion, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing, a petition for leave to intervene, any motion or other document filed in the proceeding prior to the submission of a request for hearing or petition to intervene (hereinafter “petition”), and documents filed by interested governmental entities participating under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (Even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's Public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an Order of the Commission or the presiding officer. If you do not have an NRC-issued digital ID certificate as described above, click “Cancel” when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties prior to the hearing.

If a person (other than Dominion) requests a hearing, that person shall set forth with particularity the manner in which his interest is adversely affected by this Confirmatory Order and shall address the criteria set forth in 10 CFR 2.309(d) and (f).

If a hearing is requested by a person whose interest is adversely affected, the Commission will issue an order designating the time and place of any hearing. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission
Dated this 21st day of November, 2017.
Daniel H. Dorman,
Regional Administrator.

[FR Doc. 2017-25866 Filed 11-30-17; 8:45 am]

BILLING CODE 7590-01-P